ENVIRONMENTAL PROTECTION AGENCY

40 CFR Part 141

[EPA-HQ-OW-2009-0707; FRL-8979-5]

Expedited Approval of Alternative Test Procedures for the Analysis of Contaminants Under the Safe Drinking Water Act; Analysis and Sampling Procedures

Correction

In rule document E9-27044 beginning on page 57908 in the issue of November 10, 2009, make the following correction:

1. On page 57915, the second table should appear as follows:

Alternative Testing Methods for Contaminants Listed at 40 CFR 141.21(f)(6)
Organism | Methodology | SM 20th edition ⁶ | SM 21st edition ¹ | SM online ³ | Other
E. coli | ONPG-MUG Test | 9223 B | 9223 B | 9223 B-97 |
|  |  |  |  | Modified Colitag ™ ¹³

2. On page 57917, the first table should appear as follows:

Alternative Testing Methods for Contaminants Listed at 40 CFR 141.131(b)(1)
Contaminant | Methodology | EPA method | ASTM ⁴ | SM 21st edition ¹
* * * * * *
HAA5 | LLE (diazomethane)/GC/ECD |  |  | 6251 B
| Ion Chromatography Electrospray Ionization Tandem Mass Spectrometry (IC-ESI-MS/MS) | 557 ¹⁴ |  |
Bromate | Two-Dimensional Ion Chromatography (IC) | 302.0 ¹⁸ |  |
| Ion Chromatography Electrospray Ionization Tandem Mass Spectrometry (IC-ESI-MS/MS) | 557 ¹⁴ |  |
| Chemically Suppressed Ion Chromatography |  | D 6581-08 A |
| Electrolytically Suppressed Ion Chromatography |  | D 6581-08 B |
Chlorite | Chemically Suppressed Ion Chromatography |  | D 6581-08 A |
| Electrolytically Suppressed Ion Chromatography |  | D 6581-08 B |

3. On page 57917, the fourth table heading, Alternative Testing Methods With MRL > 0.0010 mg/L for Monitoring Listed at 40 CFR 141.132(b)(3)(ii)(B) should read Alternative Testing Methods With MRL ≤ 0.0010 mg/L for Monitoring Listed at 40 CFR 141.132(b)(3)(ii)(B).

4. On page 57918, the table should appear as follows:

Alternative Testing Methods for Contaminants Listed at 40 CFR 143.4(b)
Contaminant | Methodology | EPA Method | ASTM ⁴ | SM 21st edition ¹ | SM Online ³
| * * * * * * *
Sulfate | Ion Chromatography |  |  | 4110 B |
| Gravimetric with ignition of residue |  |  | 4500-SO4⁻² C | 4500-SO4⁻² C-97
| Gravimetric with drying of residue |  |  | 4500-SO4⁻² D | 4500-SO4⁻² D-97
| Turbidimetric method |  | D 516-07 | 4500-SO4⁻² E | 4500-SO4⁻² E-97
| Automated methylthymol blue method |  |  | 4500-SO4⁻² F | 4500-SO4⁻² F-97
| * * * * * * *

[FR Doc. Z9-27044 Filed 12-1-09; 8:45 am]

BILLING CODE 1505-01-D